DEPARTMENT OF COMMERCE

National Oceanic and Atmospheric Administration

Environmental Assessment (EA) for the Proposed New Space Lease for the Geophysical Fluid Dynamics Laboratory in Princeton, NJ

AGENCY: Office of Oceanic and Atmospheric Research (OAR), National Oceanic and Atmospheric Administration (NOAA), Department of Commerce (DOC).

ACTION: Notice of intent to prepare an EA; request for comments.

SUMMARY: NOAA announces its intention to prepare an EA, in accordance with the National Environmental Policy Act of 1969, for a new space lease to be occupied by the NOAA/OAR Geophysical Fluid Dynamics Laboratory.

DATES: Written comments must be received on or before January 15, 2018.

ADDRESSES: Written comments on suggested alternatives and potential impacts should be sent to Stephen F. Mayle, Administrative Officer, NOAA/OAR/GFDL, 201 Forrestal Road, Princeton, NJ 08540. Comments may also be submitted via facsimile to 609-452-5395 or by email to Steve.Mayle@noaa.gov.

SUPPLEMENTARY INFORMATION: The proposed action would involve a lease for space for the offices, seminar rooms, meeting rooms, etc. and computing facilities used by the Geophysical Fluid Dynamics Laboratory (GFDL). The current facilities, located in the Princeton, New Jersey area, are part of NOAA's Office of Oceanic and Atmospheric Research (OAR). Research conducted at this laboratory includes development and use of mathematical models and computer simulations to improve our understanding and prediction of the behavior of the atmosphere and the oceans. GFDL scientists focus on model-building relevant for society, such as hurricane research, weather and ocean prediction, and forecasting on the continuum of time and space scales. GFDL also collaborates with visiting scientists and students from academic and non-profit institutions with whom NOAA has partnered to further its mission goals. The current physical space for GFDL consists of two buildings that together provide office space, teaching/seminar space, high performance computing space, a command/control center, and mechanical and electrical plants. The current GFDL facilities are approximately 68,675 square feet. Current space can house up to 215 staff, including full-time employees, visiting scientists and students, and contract employees.

The current facilities are in need of repairs and renovations in order to continue to be effectively and safely occupied by GFDL. The existing space is also insufficient to accommodate visiting scientists and students, for example approximately 40 such staff utilize nearby overflow space, and to effectively store and stage necessary equipment for current levels of effort. It also does not allow space to expand to continue to meet NOAA's mission in collaboration with our institutional partners. NOAA is contracting with an architectural and engineering firm to conduct a space programming and planning study, or a Program of Requirements, that will more specifically identify GFDL's space needs. This study is expected to be completed on or about April 1, 2018, and will also inform the alternatives to be considered in an EA.

The purpose of the public scoping process for this EA is to determine relevant issues that will influence the scope of the environmental analysis, including potential alternatives, and the extent to which those issues and impacts will be analyzed in the EA. Federal, state, and local agencies, along with other stakeholders that may be interested in or affected by NOAA's decision on this project are invited to participate in the scoping process and, if eligible, may request or be requested by NOAA to participate as a cooperating agency.

Dated: November 28, 2017.
David Holst,
Chief Financial Officer/CAO, Office of Oceanic and Atmospheric Research, National Oceanic and Atmospheric Administration.

[FR Doc. 2017-27387 Filed 12-19-17; 8:45 am]

BILLING CODE 3510-KD-P